DEPARTMENT OF HOUSING AND URBAN DEVELOPMENT

[Docket No. FR-4566-N-11]

Notice of Proposed Information Collection: Comment Request, Historically Black Colleges and Universities (HBCUs) Program

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: October 30, 2000.

ADDRESSES: Interested persons are invited to submit comments regarding this proposal. Comments should refer to the proposal by name and/or OMB Control Number and should be sent to: Shelia E. Jones, Reports Liaison Officer, Department of Housing & Urban Development, 451 7th Street, SW, Room 7230, Washington, DC 20410.

FOR FURTHER INFORMATION CONTACT: Delores Pruden of the Historically Black Colleges and Universities Program, 202-708-1590 (this is not a toll-free number) for copies of the proposed forms and other available documents.

SUPPLEMENTARY INFORMATION: The Department is submitting the proposed information collection to OMB for review, as required by the Paperwork Reduction Act of 1995 (44 U.S.C. Chapter 35, as amended).

This Notice is soliciting comments from members of the pubic and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Historically Black Colleges and Universities (HBCUs) Program.

OMB Control Number, if applicable: 2506-0122.

Description of the need for the information and proposed use: Application information is needed to determine competition winners, i.e., which HBCUs are the most capable of achieving the HUD HBCU Program Objective “To Expand their role and effectiveness in addressing community development needs, including neighborhood revitalization, housing and economic development in their localities, consistent with the purposes of Title I of the Housing and Community Development Act of 1974”. The application for the competition requires the completion of form HUD-40076HBCU which includes: Standard Forms (SF) 424, Application for Federal Assistance, 424B, Assurances-Non-Construction, LLL, Disclosure of Lobbying Activities, and forms HUD-424M, Funding Matrix, 50071, Certification of Payments to Influence Federal Transactions, 2992, Certification Regarding Debarment, 50070, Certification For A Durg-Free Workplace, 28880, Applicant/Recipient Disclosure/Update Report, 2991, Certification of Consistency with the Consolidated Plan, 2990, Certification of Consistency with the EZ/EC Strategic Plan, and optional forms HUD-2993, Acknowledgement of Application receipt, and HUD-2994, Client Comments and Suggestions.

After awards are made, for banking and payment purposes, grantees are required to submit a SF 1199, Direct Deposit Sign-Up Form, and HUD-20754, Line of Credit Control System (LOCCS) Form. Throughout the period of performance for the grant, grantees are required to submit quarterly reports so that (1) their performance can be evaluated; (2) their progress in achieving the program objective can be measured; and (3) documentation can be gathered for the preparation of reports, including the annual report for the Department of Education. The quarterly reports require the submission of the SF 269A, Financial Status Report, and forms HUD-441.1, Project Management System Baseline Plan, and 661.1, Project Management System Progress Report. At the end of the period of performance, grantees must submit a final report, including the SF 269A and forms HUD-441.1 and 661.1

Agency form numbers, if applicable: Listed above.

Matters of affected public: Historically Black Colleges and Universities (HBCUs).

Estimation of the total number of hours needed to prepare the information collection including number of respondents, frequency of response, and hours of response: There are 105 HBCUs eligible to apply, annually, for the HUD HBCU Competition. The Department estimates that each applicant will use, an average of two hundred (200) hours to prepare an application. Winners of the competition will be required to submit quarterly reports, a final report and perform recordkeeping. The Department estimates that for each quarter, each grantee will use an average of thirty-two (32) hours to complete quarterly reports, and an average of ten (10) hours to do recordkeeping. At the end of the period of performance, the Department estimates that the grantee will use an average of seventy (70) hours to complete a final report. See number of respondents, frequency of response, and hours per response below.

| Number of respondents | Number of responses per respondent frequency | Total annual responses | Hours per response | Total hours (annual hour burden)
Applications from eligible applicants | 105 | 1 | 105 | 200 | 21,000
Number of grants awarded which require quarterly reporting | 125 | 4 | 500 | 32 | 16,000
Final Report | 10 | 1 | 10 | 70 | 700
Recordkeeping | 125 | 4 | 500 | 10 | 5,000
Total |  |  | 1,115 |  | 42,700

Status of the proposed information collection: Revision of a currently approved collection.

Authority: The Paperwork Reduction Act of 1995, 44 U.S.C. Chapter 35, as amended.

Dated: August 28, 2000.
Cardell Cooper,
Assistant Secretary for Community Planning and Development.

[FR Doc. 00-22351 Filed 8-30-00; 8:45 am]

BILLING CODE 4210-29-M